DEPARTMENT OF HEALTH AND HUMAN SERVICES

Centers for Medicare & Medicaid Services

[CMS-3097-N]

Medicare Program; Meeting of the Medical and Surgical Procedures Panel of the Medicare Coverage Advisory Committee—June 12, 2002

AGENCY: Centers for Medicare & Medicaid Services (CMS), HHS.

ACTION: Notice of meeting.

SUMMARY: This notice announces a public meeting of the Medical and Surgical Procedures Panel (the Panel) of the Medicare Coverage Advisory Committee (the Committee). The Panel provides advice and recommendations to the Committee about clinical issues. The Committee advises us on whether adequate evidence exists to determine whether specific medical items and services are reasonable and necessary under Medicare law. The panel will discuss the quality of evidence regarding the use of deep brain stimulation for the treatment of Parkinson's disease. In addition, the panel will make recommendations concerning the issues presented. Notice of this meeting is given under the Federal Advisory Committee Act (5 U.S.C. App. 2, section 10(a)(1) and (a)(2)).

DATES: Meeting Date: The public meeting announced in this notice will be held on Wednesday, June 12, 2002, from 7:30 a.m. to 3 p.m., E.D.T.

Deadline for Presentations and Comments: May 31, 2002, 5 p.m., E.D.T.

Special Accommodations: Persons attending the meeting who are hearing or visually impaired, or have a condition that requires special assistance or accommodations, are asked to notify the Executive Secretary, CMS Office of Clinical Standards and Quality, by May 24, 2002 (see FOR FURTHER INFORMATION CONTACT).

ADDRESSES: The Meeting: The meeting will be held at the Baltimore Convention Center, Room 337-338, One West Pratt Street, Baltimore, MD 21201.

Presentations and Comments: Submit formal presentations and written comments to Michelle Atkinson, Executive Secretary, CMS Office of Clinical Standards and Quality at telephone number (410) 786-2881, or e-mail address matkinson@CMS.hhs.gov, or via regular mail at: Office of Clinical Standards and Quality, Centers for Medicare & Medicaid Services, 7500 Security Boulevard, Mail Stop C1-09-06, Baltimore, Maryland 21244.

Website: You may access current information about this meeting at www.hcfa.gov/coverage/8b1.htm.

Hotline: You may access current information about this meeting on the CMS Advisory Committee Information Hotline, 1-877-449-5659 (toll free) or in the Baltimore area (410) 786-9379.

FOR FURTHER INFORMATION CONTACT: Michelle Atkinson, (410) 786-2881, matkinson@cms.hhs.gov.

SUPPLEMENTARY INFORMATION:

I. Background

On December 14, 1998, we published a notice in the Federal Register (63 FR 68780) to describe the Medicare Coverage Advisory Committee (the Committee), which provides advice and recommendations to us about clinical issues. This notice announces the following public meeting of the Medical and Surgical Procedures Panel (the Panel) of the Committee.

Current Panel Members

Alan M. Garber, M.D., Ph.D.; Michael D. Maves, M.D., M.B.A.; Angus M. McBryde, M.D., F.A.C.S.; H. Logan Holtgrewe, M.D., F.A.C.S.; Kenneth P. Brin, M.D., Ph.D.; Les J. Zendle, M.D.; Bruce Sigsbee, M.D.; James P. Rathmell, M.D.; Phyllis E. Greenberger, M.S.W.; and Marshall S. Stanton, M.D.

Meeting Topic

The Panel provides advice and recommendations to the Committee about clinical issues. The Committee advises us on whether specific medical items and services are reasonable and necessary under Medicare law. The panel will discuss the evidence, hear presentations and public comment, and make recommendations regarding the use of deep brain stimulation for the treatment of Parkinson's disease. Background information about this topic, including panel materials, is available on the internet at http://www.hcfa.gov/coverage/8b3-jjj.htm.

II. Meeting Format

This meeting is open to the public. The Panel will hear oral presentations from the public for approximately 45 minutes. The Panel may limit the number and duration of oral presentations to the time available. If you wish to make formal presentations, you must notify the Executive Secretary named in the FOR FURTHER INFORMATION CONTACT section, and submit the following by the Deadline for Presentations and Comments date listed in the DATES section of this notice: a brief statement addressing the general nature of the evidence or arguments you wish to present, the names and addresses of proposed participants, and an estimate of time required to make the presentation. A written copy of your presentation must be provided to each Panel member before offering your public comments. We will request that you disclose at the meeting whether or not you have any financial involvement with manufacturers of any items or services being discussed (or with their competitors).

The Panel will deliberate openly about the issues discussed after public and CMS presentations. Interested persons may observe the deliberations, but the Panel will not hear further comments during this time except at the request of the chairperson. The Panel will also allow a 15-minute unscheduled open public session for attendees to address issues specific to the topic. At the conclusion of the day, the members will vote and the Panel will make its recommendation.

Authority: 5 U.S.C. App. 2, section 10(a)(1) and (a)(2).

(Catalog of Federal Domestic Assistance Program No. 93.774, Medicare—Supplementary Medical Insurance Program)

Dated: April 11, 2002.
Jeffrey L. Kang,
Director, Office of Clinical Standards and, Quality, Centers for Medicare & Medicaid Services.

[FR Doc. 02-10200 Filed 4-25-02; 8:45 am]

BILLING CODE 4120-01-P